DEPARTMENT OF COMMERCE

National Oceanic and Atmospheric Administration

[I.D. 011106G]

North Pacific Fishery Management Council; Public Meeting

AGENCY: National Marine Fisheries Service (NMFS), National Oceanic and Atmospheric Administration (NOAA), Commerce.

ACTION: Notice of a public meeting of the North Pacific Fishery Management Council (Council)/Alaska Board of Fisheries (BOF).

SUMMARY: The Council/BOF will meet on February 3, 2006 at the Fourth Avenue Theatre.

DATES: The meeting will be held on February 3, 2006, from 8:30 a.m. to 5 p.m.

ADDRESSES: The meeting will be held at the Fourth Avenue Theatre, 630 West 4th Avenue, Lathrop Room, Anchorage, AK 99501.

Council address: North Pacific Fishery Management Council, 605 W. 4th Ave., Suite 306, Anchorage, AK 99501-2252.

FOR FURTHER INFORMATION CONTACT: Council staff, telephone: (907) 271-2809.

SUPPLEMENTARY INFORMATION:

Agenda: Discuss proposal for State waters cod fishery near Adak.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at 907-271-2809 at least 7 working days prior to the meeting date.

Dated: January 12, 2006.
Emily Menashes,
Acting Director, Office of Sustainable Fisheries, National Marine Fisheries Service.

[FR Doc. E6-452 Filed 1-17-06; 8:45 am]

BILLING CODE 3510-22-S